DEPARTMENT OF ENERGY

Federal Energy Regulatory Commission

[Project No. 3472-024]

Aspinook Hydro, LLC; Notice of Application Ready for Environmental Analysis and Soliciting Comments, Recommendations, Terms and Conditions, and Prescriptions

Take notice that the following hydroelectric application has been filed with the Commission and is available for public inspection.

a. Type of Application: New Major License.

b. Project No.: 3472-024.

c. Date Filed: April 30, 2020.

d. Applicant: Aspinook Hydro, LLC (Aspinook Hydro).

e. Name of Project: Wyre Wynd Hydroelectric Project (Wyre Wynd Project).

f. Location: On the Quinebaug River in New London and Windham Counties, Connecticut. No federal lands are occupied by the project works or located within the project boundary.

g. Filed Pursuant to: Federal Power Act 16 U.S.C. 791(a)-825(r).

h. Applicant Contact: Mark Boumansour, Chief Operating Officer, Gravity Renewables, Inc., 1401 Walnut Street, Boulder, CO 80302; Phone at (303) 440-3378, or email at mark@gravityrenewables.com.

i. FERC Contact: Kristine Sillett at (202) 502-6575, or kristine.sillett@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3472-024.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

The Council on Environmental Quality (CEQ) issued a final rule on July 15, 2020, revising the regulations under 40 CFR parts 1500-1518 that federal agencies use to implement NEPA (see Update to the Regulations Implementing the Procedural Provisions of the National Environmental Policy Act, 85 FR 43304). The Final Rule became effective on and applies to any NEPA process begun after September 14, 2020. An agency may also apply the regulations to ongoing activities and environmental documents begun before September 14, 2020, which includes the proposed Wyre Wynd Project. Commission staff intends to conduct its NEPA review in accordance with CEQ's new regulations.

l. The Wyre Wynd Project consists of the following existing facilities: (1) A 538-foot-long dam that includes: (a) A 473-foot-long central spillway with 2-foot-high flashboards, and one sluice gate; (b) a 55-foot-long east abutment that includes a headgate structure with five gates; and (c) a 10-foot-long west abutment; (2) a 333-acre impoundment at a normal elevation of 97.3 feet NGVD 29; ¹ (3) a 170-foot‐long forebay that includes: (a) An auxiliary spillway; and (b) two outlet gates; (4) a powerhouse intake that includes: (a) A trash rack structure with 2.6 inch bar spacing; and (b) a 16-foot-long penstock that extends to the main, 2.7-megawatt (MW) turbine-generator unit within the powerhouse; (5) a 450-foot-long tailrace that receives discharges from the main unit; (6) a second intake structure branching off the forebay that includes: (a) A 4-foot-diameter intake opening; (b) a trash rack structure with 1.5-inch bar spacing; and (c) a 45-foot-long penstock that extends to an in-line mini, 0.08-MW turbine-generator unit; (7) a 350-foot-long tailrace that receives discharges from the mini unit; (8) a 600-volt (V), 10-foot-long main generator lead, and a 600-V, 200-foot-long mini lead; (9) an 80-foot-long, 600-V transmission line; and (10) appurtenant facilities. The project generates an average of 11,000 megawatt-hours annually.

¹ National Geodetic Vertical Datum of 1929.

Aspinook Hydro proposes to: (1) Operate the project in a run-of-river mode with a 1-inch impoundment fluctuation band; (2) provide a continuous minimum flow of 84-cubic feet per second to the bypassed reach; and (3) provide an Adaptive Management Plan for upstream and downstream fish passage.

m. In addition to publishing the full text of this document in the Federal Register, the Commission provides all interested persons an opportunity to view and/or print the contents of this document via the internet through the Commission's Home Page (http://www.ferc.gov) using the “eLibrary” link. Enter the docket number excluding the last three digits in the docket number field to access the document (i.e.,P-3472). At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TTY, (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. Aspinook Hydro must file no later than 60 days following the date of issuance of this notice: (1) A copy of the water quality certification (certification); (2) a copy of the request for certification, including proof of the date on which the certifying agency received the request; or (3) evidence of waiver of certification. Please note that the certification request must comply with 40 CFR 121.5(b), including documentation that a pre-filing meeting request was submitted to the certifying authority at least 30 days prior to submitting the certification request. Please also note that the certification request must be sent to the certifying authority and to the Commission concurrently.

o. Procedural Schedule: The application will be processed according to the following schedule. Revisions to the schedule will be made as appropriate.

Milestone | Target date
Deadline for filing comments, recommendations, preliminary terms and conditions, and preliminary fishway prescriptions | December 2021.
Deadline for filing reply comments | January 2022.

p. Final amendments to the application must be filed with the Commission no later than 30 days from the issuance date of this notice.

Dated: October 6, 2021.
Kimberly D. Bose,
Secretary.

[FR Doc. 2021-22226 Filed 10-12-21; 8:45 am]

BILLING CODE 6717-01-P